DEPARTMENT OF COMMERCE

International Trade Administration

[A-570-863]

Honey From the People's Republic of China: Continuation of Antidumping Duty Order

AGENCY: Enforcement and Compliance, International Trade Administration, Department of Commerce.

SUMMARY: As a result of the determinations by the Department of Commerce (Commerce) and the International Trade Commission (ITC) that revocation of the antidumping duty order on honey from the People's Republic of China (China) would likely lead to a continuation or recurrence of dumping and material injury to an industry in the United States, Commerce is publishing a notice of continuation of the antidumping duty order.

DATES: Applicable April 26, 2018.

FOR FURTHER INFORMATION CONTACT: Ian Hamilton, AD/CVD Operations, Office V, Enforcement and Compliance, International Trade Administration, U.S. Department of Commerce, 1401 Constitution Avenue NW, Washington, DC 20230; telephone: (202) 482-4798.

SUPPLEMENTARY INFORMATION:

Background

On December 10, 2001, Commerce published in the Federal Register notice of the antidumping duty order on honey from China.¹ On November 1, 2017, Commerce published the notice of initiation of the third five-year (sunset) review of the antidumping duty order on honey from China, pursuant to section 751(c) of the Tariff Act of 1930, as amended (the Act).²

¹ See Notice of Amended Final Determination at Less Than Fair Value and Antidumping Duty Order; Honey from the People's Republic of China, 66 FR 63670 (December 10, 2001).

² See Initiation of Five-Year (Sunset) Reviews, 82 FR 50612 (November 1, 2017).

Commerce exercised its discretion to toll all deadlines affected by the closure of the Federal Government from January 20 through 22, 2018. As a result, the revised deadline for the final results of this sunset review was March 5, 2018.³

³ See Memorandum for The Record from Christian Marsh, Deputy Assistant Secretary for Enforcement and Compliance, performing the non-exclusive functions and duties of the Assistant Secretary for Enforcement and Compliance, “Deadlines Affected by the Shutdown of the Federal Government,” dated January 23, 2018. All deadlines in this segment of the proceeding have been extended by 3 days.

Commerce conducted this sunset review on an expedited basis, pursuant to section 751(c)(3)(B) of the Act and 19 CFR 351.218(e)(1)(ii)(C)(2), because it received a complete, timely, and adequate response from a domestic interested party but no substantive responses from respondent interested parties. As a result of its review, Commerce determined that revocation of the antidumping duty order would likely lead to a continuation or recurrence of dumping.⁴ Commerce, therefore, notified the ITC of the magnitude of the margins likely to prevail should the antidumping duty order be revoked. On April 19, 2018, the ITC published notice of its determination, pursuant to section 751(c) of the Act, that revocation of the antidumping duty order on honey from China would likely lead to a continuation or recurrence of material injury to an industry in the United States within a reasonably foreseeable time.⁵

⁴ See Honey from the People's Republic of China: Final Results of the Expedited Third Sunset Review of the Antidumping Duty Order, 83 FR 10432 (March 9, 2018) (Final Results) and accompanying Issues and Decision Memorandum, dated March 5, 2017.

⁵ See Honey from China: Investigation No. 731-TA-893 (Third Review), USITC Publication 4776 (April 2018); see also Honey from China: Determination, 83 FR 17445 (April 19, 2018).

Scope of the Order

The merchandise subject to the order is honey. For a complete description of the scope of this order, see the Issues and Decision Memorandum.⁶

⁶ For a full description of the scope of order, see Final Results and accompanying Issues and Decision Memorandum.

Continuation of the Order

As a result of the determinations by Commerce and the ITC that revocation of the antidumping duty order would likely lead to a continuation or recurrence of dumping and material injury to an industry in the United States, pursuant to section 751(d)(2) of the Act and 19 CFR 351.218(a), Commerce hereby orders the continuation of the antidumping duty order on honey from China. U.S. Customs and Border Protection will continue to collect antidumping duty cash deposits at the rates in effect at the time of entry for all imports of subject merchandise.

The effective date of the continuation of the order will be the date of publication in the Federal Register of this notice of continuation. Pursuant to section 751(c)(2) of the Act, Commerce intends to initiate the next sunset review of the order not later than 30 days prior to the fifth anniversary of the effective date of continuation.

This sunset review and this notice are in accordance with section 751(c) of the Act and published pursuant to section 777(i)(1) of the Act and 19 CFR 351.218(f)(4).

Dated: April 20, 2018.
James Maeder,
Associate Deputy Assistant Secretary for Antidumping and Countervailing Duty Operations, performing the duties of Deputy Assistant Secretary for Antidumping and Countervailing Duty Operations.

[FR Doc. 2018-08776 Filed 4-25-18; 8:45 am]

BILLING CODE 3510-DS-P